DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 7 additional entities and individuals whose property and interests in property have been blocked pursuant to the Foreign Narcotics Kingpin Designation Act (“Kingpin Act”) (21 U.S.C. 1901-1908, 8 U.S.C. 1182).

DATES: The designation by the Secretary of the Treasury of the one entity and six individuals identified in this notice pursuant to section 805(b) of the Kingpin Act is effective on January 15, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On January 15, 2008, OFAC designated one additional entity and six additional individuals whose property and interests in property are blocked pursuant to section 805(b) of the Foreign Narcotics Kingpin Designation Act.

The list of additional designees is as follows:

Entity:

1. COMERCIALIZADORA COLOMBIAN MONEY EXCHANGE LTDA., Avenida 40 No. 26C-10 Local 304, Villavicencio, Colombia; Calle 82 No. 11-75 Local 164, Bogota, Colombia; Carrera 15 No. 90-36 Local 101, Bogota, Colombia; NIT # 830090469-6 (Colombia); (ENTITY) [SDNTK].

Individuals:

1. AGUDELO VELASQUEZ, Norberto Antonio (a.k.a. “Amado”); Guasca, Cundinamarca, Colombia; DOB 20 Aug 1955; POB Colombia; Citizen Colombia; Nationality Colombia; Cedula No. 4590874 (Colombia); (INDIVIDUAL) [SDNTK].

2. PAVA GIRALDO, Dora Lilia, c/o COMERCIALIZADORA COLOMBIAN MONEY EXCHANGE LTDA., Bogota, Colombia; DOB 22 Nov 1971; POB Colombia; Citizen Colombia; Nationality Colombia; Cedula No. 39771709 (Colombia); (INDIVIDUAL) [SDNTK].

3. VARGAS ALBA, Cesar Augusto, c/o COMERCIALIZADORA COLOMBIAN MONEY EXCHANGE LTDA., Bogota, Colombia; DOB 27 Aug 1969; POB Colombia; Citizen Colombia; Nationality Colombia; Cedula No. 79578481 (Colombia); Passport AI980101 (Colombia); (INDIVIDUAL) [SDNTK].

4. VARGAS ALBA, Jorge Leandro (a.k.a. “El Canoso”); c/o COMERCIALIZADORA COLOMBIAN MONEY EXCHANGE LTDA., Bogota, Colombia; DOB 17 Jan 1968; POB Colombia; Citizen Colombia; Nationality Colombia; Cedula No. 17642230 (Colombia); Passport AI263725 (Colombia); (INDIVIDUAL) [SDNTK].

5. VARGAS ARIAS, Jorge Eliecer, c/o COMERCIALIZADORA COLOMBIAN MONEY EXCHANGE LTDA., Bogota, Colombia; Calle 165 No. 25-65 Apartamento 503, Bogota, Colombia; DOB 22 Nov 1952; POB Colombia; Citizen Colombia; Nationality Colombia; Cedula No. 4894606 (Colombia); Passport 4894606 (Colombia); (INDIVIDUAL) [SDNTK].

6. VARGAS SOLER, Sandra Milena, c/o COMERCIALIZADORA COLOMBIAN MONEY EXCHANGE LTDA., Bogota, Colombia; DOB 05 Jan 1980; POB Colombia; Citizen Colombia; Nationality Colombia; Cedula No. 40047576 (Colombia); (INDIVIDUAL) [SDNTK].

Dated: January 15, 2008.
Adam J. Szubin,
Director, Office of Foreign Assets Control.

[FR Doc. E8-1041 Filed 1-22-08; 8:45 am]

BILLING CODE 4811-45-P